DEPARTMENT OF DEFENSE

Department of the Army; Corps of Engineers

Intent To Prepare a Draft Supplement to the Environmental Impact Statement To Evaluate Construction of Authorized Improvements to the Federal Gulfport Harbor Navigation Project in Harrison County, MS

AGENCY: Department of the Army, U.S. Army Corps of Engineers, DOD.

ACTION: Notice of intent.

SUMMARY: The Mobile District, U.S. Army Corps of Engineers (Corps), intends to prepare a Draft Supplement to the Environmental Impact Statement (DSEIS) to address the potential impacts associated with construction of authorized improvements to the Federal Gulfport Harbor Navigation Project in Harrison County, MS. The DSEIS will be used as a basis for ensuring compliance with the National Environmental Policy Act (NEPA) and evaluating the following two alternative plans: “No Action” and widening to the authorized project dimensions. Gulfport Harbor is authorized to (a) A channel 38 feet deep by 400 feet wide and about 8 miles long across Ship Island Bar; (b) a channel 36 feet deep by 300 feet wide and about 12 miles long through Mississippi Sound; and (c) a stepped anchorage basin at Gulfport Harbor 32 to 36 feet deep by 1,120 feet wide and 2,640 feet long.

FOR FURTHER INFORMATION CONTACT: Questions about the proposed action and the DSEIS should be addressed to Dr. Susan Ivester Rees, Coastal Environment Team, Mobile District, U.S. Army Corps of Engineers, P.O. Box 2288, Mobile, AL 36628 by telephone (251) 694-4141 or e-mail her at susan.i.rees@sam.usace.army.mil.

SUPPLEMENTARY INFORMATION: 1. Gulfport Harbor is located in Harrison County, MS, on Mississippi Sound about equidistant (80 miles) from New Orleans, LA, and Mobile, AL. The existing project was adopted by the River and Harbor Act approved July 3, 1930 (House Document Number 692, 69th. Congress, 2nd. Session) and the River and Harbor Act approved June 30, 1948 (House Document Number 112, 81st. Congress, 1st Session). Construction of the existing federal project commenced in 1932, and was completed in 1950. The River and Harbor Act approved July 3, 1958 (Senate Document Number 123, 84th. Congress, 2nd. Session) adopted the small boat harbor as part of the existing federal project. Deepening improvements to the existing Federal project at Gulfport Harbor was authorized in the Supplemental Appropriations Act of 1985 (Pub. L. 99-88), which was approved on August 15, 1985. The project was also authorized in the Water Resources Development Act of 1986 (Pub. L. 99-662), which was approved November 17, 1986, and provided for development to deepen and widen the existing ship channel 36 by 300 feet in Mississippi Sound, and 38 by 400 feet across the bar, with changes in the channel alignment and entrance to the anchorage basin for safe and unrestricted navigation.

The 1976 Feasibility Report considered a number of improvement plans, such as widening the Mississippi Sound channel to 300 feet at the existing 30-foot depth and deepening the channel in 2-foot increments to a maximum depth of 36 feet. In addition, widening the channel across the bar into the Gulf of Mexico to 400 feet at the existing 32-foot depth and deepening the channel in 2-foot increments to a maximum depth of 38 feet were also evaluated. The Corps analyzed realignment of the Ship Island channel, adjustment of the turning basin's width, and enlargement of the channel entrance into the turning basin. A number of disposal options were considered including: open-water alongside of the channels, island creation within Mississippi Sound, and use of specially designed equipment to transport the dredged material to sites within the Gulf of Mexico. The 1976 Feasibility Report recommended enlarging the Bar channel to 38 feet by 400 feet from the 38-foot depth contour in the Gulf of Mexico for a distance of about 9.1 miles to a point in Mississippi Sound near the western end of Ship Island; enlarging the channel through Mississippi Sound near the western end of Ship Island; and enlarging the Mississippi Sound channel to 36 feet by 300 feet for a distance of about 11.8 miles between the inner end of the Gulf Entrance channel and the turning basin at Gulfport; realigning the Bar channel through Ship Island Pass to a location generally parallel to and about 1,000 feet west of that presently authorized, with a deposition basin for littoral drift 38 feet deep, 300 feet wide and 2,000 feet long adjacent to the east side of the channel at the west end of Ship Island; and enlarging and adjusting the dimensions of the turning basin and channel entrance by extending the southern limits of the basin seaward about 1,180 feet along the west pier and 2,300 feet along the west side of the Ship channel, decreasing the width of the turning basin from 1,320 feet, as presently authorized, to 1,120 feet, and deepening the basin and adjusted channel approach to 36 feet. Improvements of the Gulfport Harbor navigation project was initially authorized by the Fiscal Year 1985 Supplemental Appropriations Act (Pub. L. 99-88) in accordance with the 1976 Feasibility Report. As a result of this authorization, studies were initiated relative to the island construction within the Sound and the impacts of thin-layer disposal of new work material. This initial authorization was subsequently modified by the Water Resources Development Act (WRDA) of 1986. A revised Draft Environmental Impact Statement (DEIS), circulated in 1988, considered widening and deepening the existing Gulfport Harbor navigation channel to the authorized dimensions. In addition, five alignments for the channel segment through Ship Island Pass were also considered. Material from the construction and maintenance of the project were to be disposed of in the ocean sites. The WRDA of 1988 further modified the authorized project to include disposing of construction material via thin-layer disposal in Mississippi Sound under a demonstration program. The maintenance material would be disposed of in Mississippi Sound under a plan developed by the Secretary and approved by the Administrator of the Environmental Project Agency. The Corps published an Environmental Impact Statement (EIS) in June 1989 evaluating deepening and widening Gulfport Harbor with subsequent placement via thin-layer and ocean disposal. The proposed Draft Supplemental Environmental Impact Statement (DSEIS) uses the 1989 EIS as a reference during its evaluation of constructing Gulfport Harbor to authorized project dimensions. The DSEIS will evaluate any new conditions that were not previously addressed in the 1989 EIS.

2. Alternative scenarios to be considered include the “No action” alternative and widening to the federally authorized dimension of 300 feet in the Mississippi Sound channel and 400 feet in the Bar channel. In addition, an array of disposal options are also being evaluated for the new work as well as for the maintenance material including island creation, littoral zone disposal, disposal in the existing Ocean Dredged Material Disposal Site (ODMDS), and disposal in a new ODMDS. Currently, the U.S. Environmental Protection Agency (EPA) is preparing an EIS for the “Designation of a New Gulfport Harbor Offshore ODMDS.”

3. Scoping: a. The Corps invites full public participation to promote open communication on the issues surrounding the proposal. All Federal, State, and local agencies, and other persons or organizations that have an interest are urged to participate in the NEPA scoping process. Public meetings will be held to help identify significant issues and to receive public input and comment.

b. The DSEIS will analyze the potential social, economic, and environmental impacts to the local area resulting form construction of authorized improvements. Specifically, the following major issues will be analyzed in depth in the DSEIS: Hydrologic and hydraulic regimes, threatened and endangered species, essential fish habitat and other marine habitat, air quality, cultural resources, wastewater treatment capacities and discharges, drainage discharges, transportation systems, alternatives, secondary and cumulative impacts, socioeconomic impacts, environmental justice (effect on minorities and low-income groups) (Executive Order 12898), and protection of children (Executive Order 13045).

c. The Corps will serve as the lead Federal agency in the preparation of the DSEIS. It is anticipated that the following agencies will be invited and will accept cooperating agency status for the preparation of the DSEIS: U.S. Environmental Protection Agency, U.S. Department of the Interior—Fish and Wildlife Service, National Oceanic and Atmospheric Administration Fisheries, U.S. Department of Commerce—National Marine Fisheries Service, Mississippi Department of Environmental Quality, Mississippi Department of Marine Resources, Mississippi State Port Authority at Gulfport, City of Gulfport, and State Historic Preservation Officer.

4. It is anticipated that the first scoping meeting will be held in the April 2006 time frame in the local area. Actual time and place for the meeting and subsequent meetings or workshops will be announced by the Corps by issuance of a public notice and/or notices in the local media.

5. It is anticipated that the DSEIS will be made available for public review in May 2006.

Curtis M. Flakes,
Chief, Planning and Environmental Division.

[FR Doc. 06-3146 Filed 3-30-06; 8:45 am]

BILLING CODE 3710-CR-M